DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Hamilton County, Florida, and Incorporated Areas
Docket No.: FEMA-B-1018
Little Alapaha River | At the confluence with Unnamed Tributary | +81 | Unincorporated Areas of Hamilton County.
| At the confluence with Little Alapaha River Unnamed Tributary | +85
Little Alapaha River Unnamed Tributary | At the confluence with the Little Alapaha River | +85 | Unincorporated Areas of Hamilton County.
| Approximately 950 feet upstream of U.S. Route 129 | +125
Suwannee River Unnamed Tributary | Just upstream of Jewett Street | +88 | Town of White Springs
| Approximately 600 feet upstream of 1st Street | +109
Timber Lake | Entire shoreline | +135 | Unincorporated Areas of Hamilton County.
Turket Creek | Just upstream of the confluence with the Alapahoochee River | +92 | Unincorporated Areas of Hamilton County, Town of Jennings.
| Approximately 1,000 feet upstream of Hamilton Avenue | +138
* National Geodetic Vertical Datum.
+ North American Vertical Datum.
# Depth in feet above ground.
‸ Mean Sea Level, rounded to the nearest 0.1 meter.
ADDRESSES
Town of Jennings
Maps are available for inspection at the Town Hall, 1199 Hamilton Avenue, Jennings, FL 32053
Town of White Springs
Maps are available for inspection at the Town Hall, 10363 Bridge Street, White Springs, FL 32096
Unincorporated Areas of Hamilton County
Maps are available for inspection at the Hamilton County Clerk's Office, 207 1st Street Northeast, Room 106, Jasper, FL 32052.
Middlesex County, Massachusetts (All Jurisdictions)
Docket Nos.: FEMA-B-7781 and FEMA-B-7798
Aberjona River | At the outlet to Lower Mystic Lake | +7 | Town of Arlington, City of Medford, City of Woburn, Town of Reading, Town of Winchester.
| At the divergence of the Aberjona River—North Spur | +83
Aberjona River—North Spur | At the confluence with the Aberjona River | +64 | Town of Reading, City of Woburn, Town of Wilmington.
| Approximately 300 feet upstream of Willow Street | +83
Alewife Brook (Little River) | At the confluence with the Mystic River | +7 | Town of Arlington, City of Somerville.
| Approximately 320 feet downstream of Henderson Street | +7
Assabet River | Entire reach within the Town of Hudson | +181 | Town of Hudson.
Assabet River | At the upstream side of I-495 | +213 | City of Marlborough.
| Approximately 800 feet upstream of I-495 | +214
Beaver Brook 1 | Approximately 4,040 feet upstream of Beaver Street | +54 | Town of Belmont.
| Approximately 5,765 feet upstream of Beaver Street | +75
Beaver Brook 3 | Approximately 1,000 feet downstream of Pleasant Street | +71 | Town of Dracut.
| At Pleasant Street | +71
Butter Brook | Approximately 1,600 feet upstream of Main Street | +176 | Town of Westford.
| Approximately 2,100 feet downstream of Old Road | +176
Concord River | Approximately 450 feet upstream of I-495 East | +104 | Town of Billerica, Town of Chelmsford, Town of Tewksbury.
| Approximately 2,280 feet upstream of I-495 East | +105
Cummings Brook | At the confluence with Shakers Glen Brook | +47 | City of Woburn.
| Approximately 130 feet upstream of Winn Street | +102
Fort Meadow Brook | At the confluence with the Assabet River | +181 | Town of Hudson.
| Approximately 100 feet downstream of Main Street | +181
Fort Meadow Reservoir | Entire shoreline within the City of Marlborough | +262 | City of Marlborough.
Guggins Brook | Approximately 1,000 feet upstream of the confluence with Inch Brook | +207 | Town of Boxborough.
Hales Brook | Approximately 1,350 feet east of Industrial Avenue East and Lowell Connector intersection (backwater area) | +102 | City of Lowell, Town of Chelmsford.
Hales Brook | At the confluence with River Meadow Brook | +102 | City of Lowell.
| Approximately 1,500 feet upstream of Industrial Avenue East | +102
Hales Brook | Approximately 2,200 feet downstream of I-495 | +102 | Town of Chelmsford.
| Approximately 200 feet downstream of I-495 | +102
Halls Brook | At the confluence with the Aberjona River | +54 | City of Woburn.
| Approximately 220 feet upstream of Merrimac Street | +95
Horn Pond Brook/ Fowle Brook | At the confluence with the Aberjona River | +23 | City of Woburn, Town of Winchester.
| At the confluence with Shakers Glen Brook | +47
Little Brook | At the confluence with Cummings Brook | +67 | City of Woburn.
| Approximately 400 feet upstream of Bedford Road | +95
Lubbers Brook | Approximately 1,800 feet downstream of Cook Street | +102 | Town of Wilmington.
| Approximately 3,090 feet upstream of Cook Street | +103
Marginal Brook | Entire reach within the Town of Tewksbury | +126 | Town of Tewksbury.
Merrimack River | Approximately 6,000 feet upstream of the county boundary | +57 | Town of Chelmsford, Town of Dracut, Town of Tewksbury, Town of Tyngsborough.
| Approximately 10,730 feet downstream of Tyngsborough Bridge | +104
Mill Brook | Approximately 315 feet downstream of the confluence with Tributary to Mill Brook | +119 | Town of Bedford.
| Approximately 315 feet upstream of the confluence with Tributary to Mill Brook | +119
Mill Brook 3 | Upstream side of Mystic Valley Parkway | +7 | Town of Arlington, Town of Lexington.
| Approximately 70 feet upstream of Boston and Maine Railroad | +168
Mystic River | Upstream side of Mystic Valley Parkway (State Route 16) | +5 | Town of Arlington, City of Medford.
| At the outlet to Lower Mystic Lake | +7
Nonesuch Pond | Entire reach within the Town of Natick | +174 | Town of Natick.
North Lexington Brook | Approximately 400 feet upstream of the confluence with the Shawsheen River | +116 | Town of Lexington.
| At Boston and Maine Railroad | +117
Pages Brook | Approximately 250 feet northwest of Larsen Lane and Outlook Road intersection (backwater area) | +119 | Town of Billerica.
Peppermint Brook | At the confluence with Beaver Brook 3 | +71 | Town of Dracut.
| Approximately 50 feet downstream of State Route 113 | +74
Richardson Brook | At the confluence with the Merrimack River | +57 | Town of Dracut.
| Downstream side of State Route 10 Dam | +58
Schneider Brook | At the confluence with the Aberjona River | +45 | City of Woburn.
| Approximately 880 feet upstream of Forbes Street | +84
Shakers Glen Brook | At the confluence with Fowle Brook | +47 | City of Woburn.
| At Russell Street | +62
Shawsheen River | At the upstream side of Boston and Maine Railroad | +91 | Town of Wilmington.
| Approximately 1.9 mile downstream of Boston Road (State Road 3A) | +97
Shawsheen River | Approximately 2,125 feet upstream of Bridge Street | +113 | Town of Lexington.
| Approximately 300 feet upstream of Summer Street | +116
Snake Brook | Approximately 2,420 feet downstream of Main Street | +138 | Town of Natick.
| Approximately 2,760 feet downstream of Commonwealth Avenue | +147
Sweetwater Brook | At the confluence with the Aberjona River | +36 | City of Woburn, Town of Stoneham.
| Approximately 120 feet upstream of Lindenwood Road | +63
Town Line Brook | Approximately 370 feet upstream of Lynn Street | +8 | City of Everett.
| Approximately 1,650 feet upstream of Lynn Street | +8
Town Line Brook | Approximately 1,850 feet downstream of the county boundary | +8 | City of Everett.
Trull Brook | At the confluence with the Merrimack River | +57 | Town of Tewksbury.
| Approximately 100 feet upstream of Golf Course Bridge | +57
Valley Pond | Entire shoreline within the Town of Weston | +175 | Town of Weston.
Wellington Brook | Approximately 600 feet upstream of the confluence with Alewife Brook (Little River) | +7 | City of Cambridge, Town of Belmont.
| Approximately 1,700 feet upstream of Concord Avenue | +20
* National Geodetic Vertical Datum.
+ North American Vertical Datum.
# Depth in feet above ground.
‸ Mean Sea Level, rounded to the nearest 0.1 meter.
ADDRESSES
City of Cambridge
Maps are available for inspection at the Department of Public Works, 147 Hampshire Street, Cambridge, MA 02139.
City of Everett
Maps are available for inspection at City Hall, Office of the City Engineer, 484 Broadway, Room 26, Everett, MA 02149.
City of Lowell
Maps are available for inspection at City Hall, 375 Merrimack Street, Lowell, MA 01852.
City of Marlborough
Maps are available for inspection at City Hall, Office of Inspectional Services, 140 Main Street, Marlborough, MA 01752.
City of Medford
Maps are available for inspection at City Hall, Engineering Division, 85 George P. Hassett Drive, Room 300, Medford, MA 02155.
City of Somerville
Maps are available for inspection at City Hall, Public Works Department, 93 Highland Avenue, Somerville, MA 02143.
City of Woburn
Maps are available for inspection at City Hall, Engineering Department, 10 Common Street, Woburn, MA 01801.
Town of Arlington
Maps are available for inspection at the Town Hall, 730 Massachusetts Avenue, Arlington, MA 02476.
Town of Bedford
Maps are available for inspection at the Town Hall, 10 Mudge Way, Bedford, MA 01730.
Town of Belmont
Maps are available for inspection at the Community Development Office, 19 Moore Street, Belmont, MA 02478.
Town of Billerica
Maps are available for inspection at the Building Department, 365 Boston Road, Billerica, MA 01821.
Town of Boxborough
Maps are available for inspection at 29 Middle Road, Boxborough, MA 01719.
Town of Chelmsford
Maps are available for inspection at the Public Works Department, 50 Billerica Road, Chelmsford, MA 01824.
Town of Dracut
Maps are available for inspection at the Town Hall, 11 Spring Park Avenue, Dracut, MA 01826.
Town of Hudson
Maps are available for inspection at the Inspections Department, 78 Main Street, Hudson, MA 01749.
Town of Lexington
Maps are available for inspection at the Engineering Department, 1625 Massachusetts Avenue, Lexington, MA 02420.
Town of Natick
Maps are available for inspection at the Town Hall, 13 East Central Street, Natick, MA 01760.
Town of Reading
Maps are available for inspection at the Town Hall, Building Department, 16 Lowell Street, Reading, MA 01867.
Town of Stoneham
Maps are available for inspection at the Department of Public Works, 16 Pine Street, Stoneham, MA 02180.
Town of Tewksbury
Maps are available for inspection at the Town Hall, Building Department, 1009 Main Street, Tewksbury, MA 01876.
Town of Tyngsborough
Maps are available for inspection at the Town Hall, Building Department, 25 Bryants Lane, Tyngsborough, MA 01879.
Town of Westford
Maps are available for inspection at the Town Hall, Building Department, 55 Main Street, Westford, MA 01886.
Town of Weston
Maps are available for inspection at the Town Hall, 11 Town House Road, Weston, MA 02493.
Town of Wilmington
Maps are available for inspection at the Town Hall, 121 Glen Road, Wilmington, MA 01887.
Town of Winchester
Maps are available for inspection at the Town Engineer's Office, 71 Mount Vernon Street, Winchester, MA 01890.
St. Joseph County, Michigan (All Jurisdictions)
Docket No.: FEMA-B-1016
Adams Lake | Entire shoreline | +843 | Township of Leonidas.
Clear Lake | Entire shoreline | +876 | Township of Fabius.
Corey Lake | Entire shoreline | +877 | Township of Fabius.
Fishers Lake | Entire shoreline | +815 | Township of Park.
Flowerfield Creek | Approximately 0.8 mile downstream of Marcellus Highway | +817 | Township of Flowerfield.
| Approximately 0.3 mile upstream of Main Street on the St. Joseph/ Kalamazoo county border | +842
Kaiser Lake | Entire shoreline | +877 | Township of Fabius.
Lake Templene | Entire shoreline | +831 | Township of Sherman.
Long Lake | Entire shoreline | +892 | Township of Fabius.
Mud Lake | Entire shoreline | +877 | Township of Fabius.
Pleasant Lake | Entire shoreline | +853 | Township of Fabius.
Spring Creek | At the confluence with Flowerfield Creek | +821 | Township of Flowerfield, Township of Park.
| Approximately 0.6 mile upstream of Quake Road on the Kalamazoo County. border | +844
St. Joseph River | Approximately 0.7 mile downstream of Wakeman Road | +829 | Township of Mendon.
| Approximately 350 feet downstream of Wakeman Road | +829
Unnamed Pond | Entire shoreline | +815 | Township of Park.
* National Geodetic Vertical Datum.
+ North American Vertical Datum.
# Depth in feet above ground.
‸ Mean Sea Level, rounded to the nearest 0.1 meter.
ADDRESSES
Township of Fabius
Maps are available for inspection at 13108 Broadway, Three Rivers, MI 49093.
Township of Flowerfield
Maps are available for inspection at 12020 Marcellus Highway, Marcellus, MI 49067.
Township of Leonidas
Maps are available for inspection at 53312 Fulton Road, Leonidas, MI 49066.
Township of Mendon
Maps are available for inspection at 136 West Main Street, Mendon, MI 49072.
Township of Park
Maps are available for inspection at 53640 Parkville Road, Three Rivers, MI 49093.
Township of Sherman
Maps are available for inspection at 64962 Balk Road, Sturgis, MI 49091.
Ramsey County, Minnesota, and Incorporated Areas
Docket No.: FEMA-B-1035
Bald Eagle Lake | Entire shoreline in Ramsey County. | +913 | Township of White Bear.
Casey Lake | Entire shoreline | +928 | City of Maplewood.
Gervais Lake | Entire shoreline | +863 | City of Maplewood.
Josephine Lake | Entire shoreline | +886 | City of Roseville.
Lake Owasso | Entire shoreline | +889 | City of Roseville.
Little Lake Johanna | Entire shoreline | +879 | City of Roseville.
Otter Lake | Entire shoreline in Ramsey County | +913 | Township of White Bear.
Silver Lake | Entire shoreline | +991 | City of Maplewood, City of North St. Paul.
Twin Lake | Entire shoreline | +872 | City of Little Canada, City of Vadnais Heights.
* National Geodetic Vertical Datum.
+ North American Vertical Datum.
# Depth in feet above ground.
‸ Mean Sea Level, rounded to the nearest 0.1 meter.
ADDRESSES
City of Little Canada
Maps are available for inspection at the Little Canada City Center, 515 Little Canada Road East, Little Canada, MN 55117.
City of Maplewood
Maps are available for inspection at City Hall, 1830 County. Road B East, Maplewood, MN 55109.
City of North St. Paul
Maps are available for inspection at City Hall, 2400 Margaret Street, North St. Paul, MN 55109.
City of Roseville
Maps are available for inspection at City Hall, 2660 Civic Center Drive, Roseville, MN 55113.
City of Vadnais Heights
Maps are available for inspection at City Hall, 800 East County. Road East, Vadnais Heights, MN 55127.
Township of White Bear
Maps are available for inspection at the Township Administration Building, 1281 Hammond Road, White Bear Township, MN 55110.
Lake County, Tennessee, and Incorporated Areas
Docket No.: FEMA-B-1053
Mississippi River | At the Dyer/Lake county boundary (River Mile 845) | +281 | Unincorporated Areas of Lake County, Town of Tiptonville.
| At the Lake County/New Madrid County, Missouri/Fulton County, Kentucky, boundary (River Mile 907.3) | +311
* National Geodetic Vertical Datum.
+ North American Vertical Datum.
# Depth in feet above ground.
‸ Mean Sea Level, rounded to the nearest 0.1 meter.
ADDRESSES
Town of Tiptonville
Maps are available for inspection at the Town Hall, 130 South Court Street, Tiptonville, TN 38079.
Unincorporated Areas of Lake County
Maps are available for inspection at the County Courthouse, 229 Church Street, Tiptonville, TN 38079.
Sequatchie County, Tennessee, and Incorporated Areas
Docket No.: FEMA-B-1051
Big Brush Creek | At the confluence with the Sequatchie River | +702 | Unincorporated Areas of Sequatchie County.
| Just upstream of Union Road | +784
Little Brush Creek | Approximately 0.4 mile downstream of Old Union Road | +791 | Unincorporated Areas of Sequatchie County.
| Approximately 588 feet upstream of Old Union Road | +825
Sequatchie River | Just downstream of U.S. Highway 127 | +690 | Unincorporated Areas of Sequatchie County.
| Approximately 651 feet upstream of the confluence with Big Brush Creek | +702
* National Geodetic Vertical Datum.
+ North American Vertical Datum.
# Depth in feet above ground.
‸ Mean Sea Level, rounded to the nearest 0.1 meter.
ADDRESSES
Unincorporated Areas of Sequatchie County
Maps are available for inspection at the County Courthouse, 307 Cherry Street East, Dunlap, TN 37327.
Potter County, Texas, and Incorporated Areas
Docket Nos.: FEMA-B-1014 and FEMA-B-7725
Dry Creek | Approximately 500 feet upstream of Cliffside Road | +3400 | City of Amarillo, Unincorporated Areas of Potter County.
| Approximately 500 feet upstream of West 335 North Loop | +3428
Dry Creek Overflow | Approximately 500 feet downstream from the confluence with Dry Creek | +3416 | City of Amarillo, Unincorporated Areas of Potter County.
| Approximately 120 feet north of West 335 North Loop | +3437
Playa 21 (T-Anchor Lake) | Approximately 570 feet east of Willow Street and Southeast 15th Avenue | +3616 | City of Amarillo.
Playa Lake 22 | Approximately 3,500 feet north of the intersection of Southeast 3rd Avenue and South Whitaker Road | +3593 | City of Amarillo.
Playa Lake 23 | Approximately 1,500 feet northwest of the intersection of South Adams Street and Southwest 1st Avenue | +3619 | City of Amarillo.
Playa Lake 24 (Martin Lake) | Approximately 650 feet north of the intersection of Dale Street and Martin Road | +3631 | City of Amarillo.
Playa Lake 26 | Approximately 4,600 feet southwest of the intersection of I-40 and Juett Attebury Road | +3573 | City of Amarillo, Unincorporated Areas of Potter County.
Playa Lake 27 | Approximately 2,000 feet east of the intersection of Northeast 18th Avenue and Hacienda Drive | +3548 | City of Amarillo.
Playa Lake 28 (Airport Lake) | Approximately 1,350 feet northwest of Amarillo International Airport runway | +3590 | City of Amarillo.
Playa Lake 34 | Approximately 4,600 feet southwest of the intersection of Highway 287 and South Parsley Road | +3553 | City of Amarillo, Unincorporated Areas of Potter County.
Playa Lake 6 | Approximately 1,000 feet south of the intersection of Pecos Street and I-40 | +3624 | City of Amarillo.
Playa Lake 60 | Approximately 2,000 feet east of Spur 228 | +3558 | Unincorporated Areas of Potter County.
Playa Lake 61 | Approximately 1,100 feet northeast of the intersection of Parsley Road and railroad | +3596 | City of Amarillo, Unincorporated Areas of Potter County.
Tributary B | At the confluence with Dry Creek | +3468 | City of Amarillo.
| Approximately 100 feet from North Western Street | +3530
Tributary C | At the confluence with Dry Creek | +3468 | City of Amarillo.
| Approximately 100 feet upstream of Fairway Drive | +3506
Tributary D | At the confluence with Tributary B | +3505 | City of Amarillo.
| Approximately 500 feet upstream of West Amarillo Boulevard | +3582
Tributary D Tributary | Approximately 50 feet downstream of the confluence with Tributary D | +3532 | City of Amarillo.
| Approximately 1,000 feet upstream of Northwest 10th Avenue | +3579
West Amarillo Creek | Approximately 1,000 feet west of the intersection of Helium Road and West 9th Avenue | +3616 | Unincorporated Areas of Potter County.
| Approximately 100 feet upstream of the intersection with Indian Hill Road | +3708
* National Geodetic Vertical Datum.
+ North American Vertical Datum.
# Depth in feet above ground.
‸ Mean Sea Level, rounded to the nearest 0.1 meter.
ADDRESSES
City of Amarillo
Maps are available for inspection at 509 Southeast 7th Avenue, Amarillo, TX 79101.
Unincorporated Areas of Potter County
Maps are available for inspection at 500 South Fillmore Street, Amarillo, TX 79101.
Randall County, Texas, and Incorporated Areas
Docket Nos.: FEMA-B-1014 and FEMA-B-7758
Palo Duro Creek | At the confluence with Prairie Dog Town Fork of Red River | +3484 | Unincorporated Areas of Randall County.
| At West Country Club Road | +3562
Playa Lake 11 | Approximately 500 feet south of the intersection of Bell Street and Attebury Drive | +3646 | City of Amarillo, Unincorporated Areas of Randall County.
Playa Lake 13 | Approximately 2,500 feet southeast of the intersection of West 335 SouthLoop and Valleyview Drive | +3626 | City of Amarillo, Unincorporated Areas of Randall County.
Playa Lake 14 (Diamond Horseshoe Lake) | Approximately 100 feet south of Winners Circle | +3658 | City of Amarillo.
Playa Lake 16 | Approximately 350 feet south of the intersection of South Hayden and Southwest 48th Avenue | +3633 | City of Amarillo.
Playa Lake 18 | Approximately 1,000 feet south of the intersection of Farmers Avenue and Tradewind Street | +3583 | Unincorporated Areas of Randall County.
Playa Lake 19 | Approximately 1,200 feet east of the intersection of Southwest 42nd Avenue and South Harrison Street | +3638 | City of Amarillo.
Playa 20 (Gooch Lake) | Approximately 5,000 feet south of the intersection of Southeast 34th Avenue and South Manhattan Street | +3579 | City of Amarillo.
Playa Lake 3 | Approximately 1,000 feet north of Ascension Parkway | +3710 | Unincorporated Areas of Randall County.
Playa Lake 34 | Approximately 4,600 feet southwest of the intersection of Highway 287 and South Parsley Road | +3553 | Unincorporated Areas of Randall County.
Playa Lake 4 | At the intersection of West CR 58 and Helium Road | +3699 | City of Amarillo, Unincorporated Areas of Randall County.
Playa Lake 5 (McDonald Lake) | Approximately 1,100 feet southeast of the intersection of South Coulter Street and Southwest 45th Street | +3687 | City of Amarillo.
Playa Lake 7 | Approximately 100 feet north of the intersection of West 77th Avenue and Cody Drive | +3675 | City of Amarillo, Unincorporated Areas of Randall County.
Playa Lake 8 | Approximately 100 feet south of FM 2186 and 335 South Loop | +3681 | City of Amarillo, Unincorporated Areas of Randall County.
Playa Lake 9 | Approximately 480 feet north of the intersection of West Sundown Street and Elaine Street | +3683 | Unincorporated Areas of Randall County.
Prairie Dog Town Fork of Red River | Approximately 100 feet downstream of the intersection of Exmoor Road and Canyon Creek Road | +3395 | Unincorporated Areas of Randall County, Village of Lake Tanglewood, Village of Palisades.
| At the confluence with Tierra Blanca Creek | +3484
Tierra Blanca Creek | At the confluence with Palo Duro Creek | +3484 | City of Canyon, Unincorporated Areas of Randall County.
| Approximately 1,500 feet downstream of Gordon Cummings Road | +3547
* National Geodetic Vertical Datum.
+ North American Vertical Datum.
# Depth in feet above ground.
‸ Mean Sea Level, rounded to the nearest 0.1 meter.
ADDRESSES
City of Amarillo
Maps are available for inspection at 509 Southeast 7th Avenue, Amarillo, TX 79101.
City of Canyon
Maps are available for inspection at 301 16th Street, Canyon, TX 79015.
Unincorporated Areas of Randall County
Maps are available for inspection at 301 Highway 60, Canyon, TX 79015.
Village of Lake Tanglewood
Maps are available for inspection at 1000 Tanglewood Drive, Amarillo, TX 79118.
Village of Palisades
Maps are available for inspection at 115 Brentwood Road, Amarillo, TX 79118.

(Catalog of Federal Domestic Assistance No. 97.022, “Flood Insurance.”)

Dated: April 27, 2010.
Sandra K. Knight,
Deputy Federal Insurance and Mitigation Administrator, Mitigation, Department of Homeland Security, Federal Emergency Management Agency.

[FR Doc. 2010-10387 Filed 5-3-10; 8:45 am]

BILLING CODE 9110-12-P